SMALL BUSINESS ADMINISTRATION

[Disaster Declaration #14744 and #14745]

Texas Disaster Number TX-00472

AGENCY: U.S. Small Business Administration.

ACTION: Amendment 4.

SUMMARY: This is an amendment of the Presidential declaration of a major disaster for the State of Texas (FEMA-4272-DR), dated 06/11/2016.

Incident: Severe Storms and Flooding.

Incident Period: 05/22/2016 through 06/24/2016.

Effective Date: 08/01/2016.

Physical Loan Application Deadline Date: 08/10/2016.

EIDL Loan Application Deadline Date: 03/11/2017.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for the State of Texas, dated 06/11/2016 is hereby amended to re-establish the incident period for this disaster as beginning 05/22/2016 and continuing through 06/24/2016.

All other information in the original declaration remains unchanged.

(Catalog of Federal Domestic Assistance Number 59008)

James E. Rivera,
Associate Administrator for Disaster Assistance.

[FR Doc. 2016-19179 Filed 8-11-16; 8:45 am]

BILLING CODE 8025-01-P